DEPARTMENT OF THE INTERIOR

Bureau of Indian Affairs

Osage Negotiated Rulemaking Committee

AGENCY: Bureau of Indian Affairs, Interior.

ACTION: Notice of meetings.

SUMMARY: In accordance with the requirements of the Federal Advisory Committee Act, 5 U.S.C. Appendix 2, the U.S. Department of the Interior, Bureau of Indian Affairs, Osage Negotiated Rulemaking Committee will meet as indicated below.

DATES: Meetings: The meetings will be held as follows: Tuesday, November 13, 2012, from 9 a.m. to 6 p.m.; and Thursday, December 13, 2012, and Friday, December 14, 2012, from 9 a.m. to 6 p.m.

ADDRESSES: November Meeting: Osage Minerals Council Chambers, 813 Grandview Place, Pawhuska, Oklahoma 74056; December Meeting: Wah Zha Zhi Cultural Center, 1449 W. Main, Pawhuska, Oklahoma 74056.

FOR FURTHER INFORMATION CONTACT: Mr. Eddie Streater, Designated Federal Officer, Bureau of Indian Affairs, Wewoka Agency, P.O. Box 1540, Seminole, OK 74818; telephone (405) 257-6250; fax (405) 257-3875; or email osageregneg@bia.gov. Additional Committee information can be found at: http://www.bia.gov/osageregneg.

SUPPLEMENTARY INFORMATION: On October 14, 2011, the United States and the Osage Nation (formerly known as the Osage Tribe) signed a Settlement Agreement to resolve litigation regarding alleged mismanagement of the Osage Nation's oil and gas mineral estate, among other claims. As part of the Settlement Agreement, the parties agreed that it would be mutually beneficial “to address means of improving the trust management of the Osage Mineral Estate, the Osage Tribal Trust Account, and Other Osage Accounts.” Settlement Agreement, Paragraph 1.i. The parties agreed that a review and revision of the existing regulations is warranted to better assist the Bureau of Indian Affairs (BIA) in managing the Osage Mineral Estate. The parties agreed to engage in a negotiated rulemaking for this purpose. Settlement Agreement, Paragraph 9.b. After the Committee submits its report, BIA will develop a proposed rule to be published in the Federal Register.

Meeting Agenda: The meeting agenda will include (1) Welcome and Introduction; (2) Overview of prior meeting and action tracking; (3) Members' round robin to share information and identify key issues to be addressed; (4) Committee Members' review and discussion of subcommittee activities; (5) Future Committee activities; (6) Public comments which will be scheduled for 45 minutes in the morning and again in the afternoon; and (7) closing remarks. The final agenda will be posted on www.bia.gov/osagenegreg prior to each meeting.

Public Input: All Committee meetings are open to the public. Interested members of the public may present, either orally or through written comments, information for the Committee to consider during the public meeting. Written comments should be submitted, prior to, during, or after the meeting, to Mr. Eddie Streater, Designated Federal Officer, preferably via email, at osagenegneg@bia.gov, or by U.S. mail to: Mr. Eddie Streater, Designated Federal Officer, Bureau of Indian Affairs, Wewoka Agency, P.O. Box 1540, Seminole, OK 74818. Due to time constraints during the meeting, the Committee is not able to read written public comments submitted into the record.

Individuals or groups requesting to make oral comments at the public Committee meeting will be limited to 5 minutes per speaker. Speakers who wish to expand their oral statements, or those who had wished to speak, but could not be accommodated during the public comment period, are encouraged to submit their comments in written form to the Committee after the meeting at the address provided above. There will be a sign-up sheet at the meeting for those wishing to speak during the public comment period.

The meeting location is open to the public. Space is limited, however, so we strongly encourage all interested in attending to preregister by submitting your name and contact information via email to Mr. Eddie Streater at osageregneg@bia.gov. Persons with disabilities requiring special services, such as an interpreter for the hearing impaired, should contact Mr. Streater at (405) 257-6250 at least seven calendar days prior to the meeting. We will do our best to accommodate those who are unable to meet this deadline.

Dated: October 24, 2012.
Michael S. Black,
Director, Bureau of Indian Affairs.

[FR Doc. 2012-26624 Filed 10-29-12; 8:45 am]

BILLING CODE 4310-02-P